DEPARTMENT OF THE INTERIOR

National Park Service

Final Environmental Impact Statement for Santa Cruz Island Primary Restoration Plan Channel Islands National Park Santa Barbara County, CA; Notice of Availability

SUMMARY: Pursuant to § 102(2)(c) of the National Environmental Policy Act of 1969 (Pub. L. 81-190 as amended), the National Park Service, Department of the Interior, has prepared a Final Environmental Impact Statement (EIS) assessing the potential impacts of restoring Santa Cruz Island by eradicating feral pigs from the island and controlling fennel (both are non-native species). This Final EIS analyzes the effects of implementing proposed actions that accomplish the following objectives: (1) Restore native plant communities; (2) protect plant species that have been listed as endangered or threatened under the Endangered Species Act; (3) reduce the spread of noxious weeds; (4) protect the native Island fox; (5) protect archeological sites; and (6) conserve soil resources on the island. The proposed action was developed in coordination with The Nature Conservancy, owners of 75% of Santa Cruz Island. The actions proposed in this Final EIS are necessary because of the adverse ecological impacts these non-native species are having on Santa Cruz Island.

Proposal

The proposal for eradicating pigs from Santa Cruz Island is to divide the island into six fenced zones and to sequentially eradicate pigs zone by zone. Approximately 45 miles of fence would be constructed along existing fence lines, thereby creating six distinct management units of about 12,000 acres each. Complete eradication would be achieved in each of the zones in a coordinated effort lasting approximately one year using trained, professional hunters. Techniques and tools for achieving eradication goals would be similar to other pig eradication efforts such as neighboring Santa Rosa Island and Santa Catalina Island. A helicopter may occasionally be used to transport hunters or serve as a hunting platform.

The eradication campaign would occur in four distinct phases. Phase I (Administration, Infrastructure, and Acquisition) includes putting in place the necessary staff to oversee, manage, direct, and carry out the project including fencing and hunting contractors. It also includes bolstering current housing structures and establishing adequate communications on the island. Necessary equipment and supplies would also be secured at this time. Phase II (Fencing) involves constructing six distinct zones of pig-proof fence across the island. Hunting and trapping in a zone may begin as soon as the zone fence is completed, and prior to the next sequential zone fence being completed. Phase III (Hunting) involves eradicating pigs within a zone, then moving to the next zone in sequential order. Contracted professional hunters would use American Veterinarian Medial Association (AVMA) approved techniques for euthanasia. Eradication techniques that would be used include walk-in traps, baiting, ground hunting with dogs, and aerial shooting. Once hunting commences, it is estimated that a complete island-wide eradication could be achieved within six years. Phase IV (Final Hunting and Monitoring) is perhaps the most important, as the intention is to exhaustively search the island for remnant pigs and pig sign. A systematic protocol of monitoring for remnant feral pigs would be developed for the island. Monitoring of the island would continue for five years after elimination of the “last pig” in order to insure success. Long term ecological monitoring to assess ecosystem changes due to pig eradication would continue into the foreseeable future.

It has been determined that in order to successfully eradicate pigs from Santa Cruz Island that fennel will have to be manipulated in areas where it has formed large dense thickets. These dense thickets of fennel create a safe harbor for pigs to escape from being hunted, and thus potential failure of the project. Fennel will also be controlled in this area by using a technique developed by The Nature Conservancy (TNC) that consists of a fall prescribed burn with a follow-up treatment of herbicide (Garlon 3A) at 1 lb. AI/acre in the two springs following the burn. Herbicide application would use ground and aerial application techniques. TNC developed this protocol in an extensive 600-acre test program in the Central Valley of Santa Cruz Island. Approximately 1,800 acres of fennel infestation would be treated.

Alternatives

After identifying the significant environmental issues associated with the proposed action, the Park began developing alternatives to the proposed action. Modifying the eradication strategies to address the environmental issue concerns was the basis the Park used to develop alternatives. In all, three alternatives were developed, including “No Action” (Alternative One). The alternatives are as follows: Alternative Two, “Simultaneous Island-wide Eradication of Pigs”, involves eradicating pigs island-wide without the use of fenced zones. A simultaneous island-wide operation would require several teams of hunters and dogs repeatedly working sections of the island. This is considered to be a high intensity effort for a short period of time (approximately 2-3 years) in order to complete island-wide eradication. Alternative Three would eradicate pigs from eastern Santa Cruz Island but only exclude pigs from selected sensitive resources on central and western Santa Cruz Island. To keep pigs from impacting sensitive resources, pig-proof fence would be constructed that would enclose selected resources such as archeological sites, and threatened and endangered plant species. Alternative Two was determined to be the “environmentally preferred alternative” because it accomplishes eradication in a shorter period of time and does not require the construction of fence i.e. less physical disturbance. Alternative Four is the “agency preferred” alternative because this deliberate longer term strategy can be implemented more easily given the logistical and financial challenges of supporting a complex program on an offshore island.

SUPPLEMENTARY INFORMATION: The Final EIS is now available for public review. CD copies are available at park headquarters. Paper copies will be made available at Ventura's Foster Library, and Santa Barbara's Central Library. A digital version will also be available on-line at the Park's Web site (http://www.nps.gov/chis/restoringsci/island.html). Distribution of the Final EIS to interested publics will be on digital compact disk (CD) in Adobe Acrobat pdf format. Inquiries regarding the Final EIS should be directed to: Superintendent, Channel Islands National Park, 1901 Spinnaker Dr, Ventura, California 93001. The telephone number for the park is (805) 658-5700.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision

No sooner than 30 (thirty) days after the Environmental Protection Agency has published its notice of filing of Final EIS in the Federal Register, a Record of Decision (ROD) will be executed. As a delegated EIS, the Regional Director, Pacific West Region, is responsible for the final decision; subsequently the Superintendent, Channel Islands National Park, would be responsible for plan implementation and monitoring activities.

Dated: June 24, 2002.
James R. Shevock,
Acting Regional Director, Pacific West Region.

[FR Doc. 02-22372 Filed 8-30-02; 8:45 am]

BILLING CODE 4310-70-P